DEPARTMENT OF LABOR

Employment and Training Administration

[TA-W-37,984]

Nippers Workshop, Inc., Benton, IL; Notice of Termination of Investigation

Pursuant to section 221 of the Trade Act of 1974, an investigation was initiated on July 24, 2000, in response to a petition filed on the same date on behalf of workers at Nippers Workshop, Inc., Benton, Illinois.

The Department of Labor has been unable to locate an official of the company to provide the information necessary to render a trade adjustment assistance determination. Consequently, the Department of Labor cannot conduct an investigation to make a determination as to whether the workers are eligible for adjustment assistance benefits under the Trade Act of 1974. Therefore, further investigation in this matter would serve no purpose, and the investigation has been terminated.

Signed in Washington, D.C. this 6th day of October 2000.
Linda G. Poole,
Certifying Officer, Division of Trade Adjustment Assistance.

[FR Doc. 00-27573 Filed 10-25-00; 8:45 am]

BILLING CODE 4510-30-M